DEPARTMENT OF TRANSPORTATION

Federal Aviation Administration

14 CFR Part 39

[Docket No. FAA-2024-2147; Project Identifier MCAI-2022-01515-R; Amendment 39-22967; AD 2025-04-09]

RIN 2120-AA64

Airworthiness Directives; Airbus Helicopters

AGENCY: Federal Aviation Administration (FAA), DOT.

ACTION: Final rule.

SUMMARY: The FAA is adopting a new airworthiness directive (AD) for all Airbus Helicopters Model EC 155B, EC155B1, SA-365N, SA-365N1, AS-365N2, and AS 365 N3 helicopters. This AD prompted by an engine compartment fire where the upper stiffener of the central firewall in the engine compartment was found damaged. This AD requires replacing the aluminum central firewall stiffener with a titanium central firewall stiffener and prohibits installing an aluminum central firewall stiffener. These actions are specified in a European Union Aviation Safety Agency (EASA) AD, which is incorporated by reference. The FAA is issuing this AD to address the unsafe condition on these products.

DATES: This AD is effective April 11, 2025.

The Director of the Federal Register approved the incorporation by reference of a certain publication listed in this AD as of April 11, 2025.

ADDRESSES:

AD Docket: You may examine the AD docket at regulations.gov under Docket No. FAA-2024-2147; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. The EASA material is also available at regulations.gov under Docket No. FAA-2024-2147.

FOR FURTHER INFORMATION CONTACT: Hye Yoon Jang, Aviation Safety Engineer, FAA, 1600 Stewart Avenue, Suite 410, Westbury, NY 11590; phone: (206) 231-3758; email: Hye.Yoon.Jang@faa.gov.

SUPPLEMENTARY INFORMATION:

Background

The FAA issued a notice of proposed rulemaking (NPRM) to amend 14 CFR part 39 by adding an AD that would apply to all Airbus Helicopters Model EC 155B, EC155B1, SA-365N, SA-365N1, AS-365N2, and AS 365 N3 helicopters. The NPRM published in the Federal Register on September 30, 2024 (89 FR 79483). The NPRM was prompted by AD 2022-0231, dated November 28, 2022, issued by EASA, which is the Technical Agent for the Member States of the European Union (EASA AD 2022-0231) (also referred to as the MCAI). The MCAI states that an engine fire occurred where the upper stiffener of the central firewall, made of aluminum, in the engine compartment was found damaged. The FAA is proposing this AD to address failure of a central firewall stiffener made of aluminum, possibly due to its inability to withstand high temperatures of an engine fire and subsequently not seal the engine compartment properly. In the event of an engine fire, the unsafe condition, if not addressed, could result in fire propagating from one engine compartment to the other and subsequent loss of control of the helicopter.

In the NPRM, the FAA proposed to require replacing aluminum central firewall stiffeners with titanium central firewall stiffeners and prohibit installing an aluminum central firewall stiffener, as specified in EASA AD 2022-0231. The FAA is issuing this AD to address the unsafe condition on these products.

You may examine the MCAI in the AD docket at regulations.gov under Docket No. FAA-2024-2147.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Material Incorporated by Reference Under 1 CFR Part 51

The FAA reviewed EASA AD 2022-0231, which requires replacing aluminum central firewall stiffeners with titanium central firewall stiffeners and prohibits installing an aluminum central firewall stiffener on any helicopter.

This material is reasonably available because the interested parties have access to it through their normal course of business or by the means identified in the ADDRESSES section.

Costs of Compliance

The FAA estimates that this AD affects 35 helicopters of U.S. Registry. Labor rates are estimated at $85 per work-hour. Based on these numbers, the FAA estimates that operators may incur the following costs to comply with this AD.

Replacing the aluminum central firewall stiffener with a titanium central firewall stiffener takes 7 work-hours and parts cost $1,737 to $2,801 depending on the part number for an estimated cost of $2,332 to $3,396 per helicopter and $81,620 to $118,860 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(f), 40113, 44701.

§ 39.13 [Amended]

2. The FAA amends § 39.13 by adding the following new airworthiness directive:

2025-04-09 Airbus Helicopters: Amendment 39-22967; Docket No. FAA-2024-2147; Project Identifier MCAI-2022-01515-R.

(a) Effective Date

This airworthiness directive (AD) is effective April 11, 2025.

(b) Affected ADs

None.

(c) Applicability

This AD applies to Airbus Helicopters Model EC 155B, EC155B1, SA-365N, SA-365N1, AS-365N2, and AS 365 N3 helicopters, certificated in any category.

(d) Subject

Joint Aircraft System Component (JASC) Code 5412, Nacelle/Pylon, Bulkhead/Firewall.

(e) Unsafe Condition

This AD was prompted by an engine compartment fire where the upper stiffener of the central firewall, made of aluminum, in the engine compartment was found damaged. The FAA is issuing this AD to address failure of a central firewall stiffener made of aluminum, possibly due to its inability to withstand high temperatures of an engine fire and subsequently not seal the engine compartment properly. In the event of an engine fire, the unsafe condition, if not addressed, could result in fire propagating from one engine compartment to the other and subsequent loss of control of the helicopter.

(f) Compliance

Comply with this AD within the compliance times specified, unless already done.

(g) Requirements

Except as specified in paragraphs (h) and (i) of this AD: Comply with all required actions and compliance times specified in, and in accordance with, European Union Aviation Safety Agency (EASA) AD 2022-0231, dated November 28, 2022 (EASA AD 2022-0231).

(h) Exceptions to EASA AD 2022-0231

(1) Where EASA AD 2022-0231 refers to its effective date, this AD requires using the effective date of this AD.

(2) Where EASA AD 2022-0231 refers to flight hours, this AD requires using hours time-in-service.

(3) Where the material referenced in EASA AD 2022-0231 specifies discarding certain parts, this AD requires removing those parts from service.

(4) Where the material referenced in EASA AD 2022-0231 states “If the bracket (f) is in unsatisfactory condition (DETAIL D),” this AD requires replacing that text with “Inspect the bracket (f) (DETAIL D) for airworthy condition; for the purpose of this AD, an unairworthy condition may be indicated by corrosion, a crack, or wear. If the bracket (f) is in an unairworthy condition.”

(5) Where the material referenced in EASA AD 2022-0231 states to “Do a check of the cover strip (g) and the fireproof seal (h) to replace if necessary (SECTION B-B),” this AD requires replacing that text with “Inspect the cover strip (g) and the fireproof seal (h) for airworthy condition. If the cover strip (g) or the fireproof seal (h) is in an unairworthy condition, remove each unairworthy part from service and replace it with a new (zero total hours time-in-service) part (SECTION B-B).”

(6) This AD does not adopt the “Remarks” section of EASA AD 2022-0231.

(i) No Reporting Requirement

Although the material referenced in EASA AD 2022-0231 specifies to submit certain information to the manufacturer, this AD does not require that action.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: AMOC@faa.gov.

(2) Before using any approved AMOC, notify your appropriate principal inspector, or lacking a principal inspector, the manager of the local Flight Standards District Office/certificate holding district office.

(k) Related Information

For more information about this AD, contact Hye Yoon Jang, Aviation Safety Engineer, FAA, 1600 Stewart Avenue, Suite 410, Westbury, NY 11590; phone: (206) 231-3758; email: Hye.Yoon.Jang@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2022-0231, dated November 28, 2022.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on February 18, 2025.
Victor Wicklund,
Deputy Director, Compliance & Airworthiness Division, Aircraft Certification Service.

[FR Doc. 2025-03698 Filed 3-6-25; 8:45 am]

BILLING CODE 4910-13-P